DEPARTMENT OF COMMERCE

Foreign-Trade Zones Board

[B-48-2025]

Foreign-Trade Zone 183; Application for Subzone; Applied Materials, Inc.; Austin and Pflugerville, Texas

An application has been submitted to the Foreign-Trade Zones (FTZ) Board by the Foreign Trade Zone of Central Texas, Inc., grantee of FTZ 183, requesting subzone status for the facilities of Applied Materials, Inc., located in Austin and Pflugerville, Texas. The application was submitted pursuant to the provisions of the Foreign-Trade Zones Act, as amended (19 U.S.C. 81a-81u), and the regulations of the FTZ Board (15 CFR part 400). It was formally docketed on December 3, 2025.

The proposed subzone would consist of the following sites: Site 1 (244.69 acres) 9700 US 290 East, Austin; Site 2 (18.857 acres) 3212 East Pecan Street, Pflugerville; Site 3 (9.47 acres) 9701 Metric Boulevard, Austin; Site 4 (13.43 acres) 710 and 810 W Howard Lane, Austin; and, Site 5 (18.02 acres) 10000 Spectrum, Austin. A notification of proposed production activity has been submitted and will be published separately for public comment.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is January 14, 2026. Rebuttal comments in response to material submitted during the foregoing period may be submitted through January 29, 2026.

A copy of the application will be available for public inspection in the “Online FTZ Information Section” section of the FTZ Board's website, which is accessible via www.trade.gov/ftz.

For further information, contact Camille Evans at Camille.Evans@trade.gov.

Dated: December 3, 2025.
Elizabeth Whiteman,
Executive Secretary.

[FR Doc. 2025-22101 Filed 12-4-25; 8:45 am]

BILLING CODE 3510-DS-P